DEPARTMENT OF THE INTERIOR

Bureau of Land Management

[AA-6670-F, AA-6670-L, AA-6670-M, AA-6670-A2; LLAK964000-L14100000-HY0000-P]

Alaska Native Claims Selection

AGENCY: Bureau of Land Management, Interior.

ACTION: Notice of decision approving lands for conveyance.

SUMMARY: As required by 43 CFR 2650.7(d), notice is hereby given that the BLM will issue an appealable decision approving conveyance of the surface estate in the lands described below to Iliamna Natives Limited pursuant to the Alaska Native Claims Settlement Act. The subsurface estate in these lands will be conveyed to Bristol Bay Native Corporation when the surface estate is conveyed to Iliamna Natives Limited. The lands are in the vicinity of Iliamna, Alaska, and are located in:

Lot 5, U.S. Survey No. 2644, Alaska.

Containing 4.77 acres.

Seward Meridian, Alaska

T. 3 S., R. 31 W.,

Secs. 35 and 36.

Containing 1,280 acres.

T. 4 S., R. 31 W.,

Secs. 1 and 2.

Containing 1,280 acres.

T. 3 S., R. 32 W.,

Sec. 9.

Containing 378.41 acres.

T. 3 S., R. 33 W.,

Sec. 35.

Containing 640 acres.

T. 4 S., R. 33 W.,

Sec. 21.

Containing 640 acres.

Aggregating 4,223.18.

Notice of the decision will also be published four times in the Bristol Bay Times.

DATES: The time limits for filing an appeal are:

1. Any party claiming a property interest which is adversely affected by the decision shall have until May 24, 2010.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION, CONTACT: The Bureau of Land Management by phone at 907-271-5960, or by e-mail at ak.blm.conveyance@ak.blm.gov. Persons who use a telecommunication device (TTD) may call the Federal Information Relay Service (FIRS) at 1-800-877-8339, 24 hours a day, seven days a week, to contact the Bureau of Land Management.

Hillary Woods,
Land Law Examiner, Land Transfer Adjudication I Branch.

[FR Doc. 2010-9355 Filed 4-21-10; 8:45 am]

BILLING CODE 4310-JA-P